DEPARTMENT OF HOMELAND SECURITY

Bureau of Customs and Border Protection

Triennial Status Report and Status Report Fee: General Notice

AGENCY: Bureau of Customs and Border Protection, Department of Homeland Security.

ACTION: Notice of due date for Status Report and Fee.

SUMMARY: This is to advise Customs brokers that the Triennial Status Report Fee of $100 that is assessed for each license held by a broker whether it may be an individual, partnership, association or corporation, is due during the month of February 2006 along with the corresponding status report.

DATES: Due date for payment of the fee and status report: February 28, 2006.

FOR FURTHER INFORMATION CONTACT: Russell Morris, Broker Management Branch, (202) 344-2717.

SUPPLEMENTARY INFORMATION: In accordance with 19 U.S.C. 1641(g) and 19 CFR 111.30(d), each broker must file a written status report and pay the corresponding fee of $100 every three years. The report is due every three years regardless of the date the license was issued to the broker. The last status report and fee were due during the month of February 2003. Reports and fees must be filed during the month of February 2006, and be addressed to the director of the port that originally delivered the license to the broker. No reports or fees should be submitted directly to Customs and Border Protection Headquarters.

The elements that must be included in the report are prescribed in 19 CFR 111.30(d). While no particular format is required, a model report may be obtained from your local Customs and Border Protection port office.

Dated: November 15, 2005.
Jayson P. Ahern,
Assistant Commissioner, Office of Field Operations.

[FR Doc. 05-23061 Filed 11-21-05; 8:45 am]

BILLING CODE 9111-14-P